DEPARTMENT OF TRANSPORTATION

National Highway Traffic Safety Administration

RIN 2127-AI23

Reports, Forms and Record Keeping Requirements; Agency Information Collection Activity Under OMB Review

AGENCY: National Highway Traffic Safety Administration, DOT.

ACTION: Emergency Federal Register Notice.

SUMMARY: The Department of Transportation has submitted the following emergency processing public information collection request to the Office of Management and Budget for review and clearance under the Paperwork Reduction Act of 1995 (Pub.L. 104-13, 44 U.S.C. Chapter 35.) This notice announces that the Information Collection Request (ICR) abstracted below has been forwarded to the Office of Management and Budget (OMB) for review and comment. The ICR describes the nature of the information collections and their expected burden. Comments should be directed to the Office of Information and Regulatory Affairs, Office of Management and Budget, 725-17th Street, NW., Washington, DC 20503, Attention NHTSA Desk Officer.

DATES: OMB approval has been requested by January 30, 2001.

FOR FURTHER INFORMATION CONTACT: Jennifer T. Timian, NHTSA 400 Seventh Street, SW., Room 5219, NCC-10,Washington, DC 20590. Ms. Timian's telephone number is (202) 366-5263.

SUPPLEMENTARY INFORMATION:

National Highway Traffic Safety Administration

Title: Reporting of Sale or Lease of Defective or Noncompliant Tires.

OMB Control Number: None Assigned to Date.

Frequency: Occasional.

Affected Public: Any person who knowingly and willfully sells or leases a defective or noncompliant tire for use on a motor vehicle with actual knowledge that the manufacturer of the tire has notified dealers of the defect or noncompliance. Persons who sell or lease new or used motor vehicles equipped with defective or noncompliant tires not subject to this reporting requirement with respect to vehicle sales. Motor vehicle lessors and rental companies are also excluded.

Abstract: This information collection is statutorily-mandated. NHTSA anticipates using the information collected to inform purchasers of those defective or noncompliant tires of the existence of the defect or noncompliance, to investigate sales and leases of new tires that are defective or noncompliant, and/or facilitate the providing of a remedy to the purchasers of such new tires. Respondents are expected to be tire dealers and retailers.

Estimated Annual Burden: 4.5 hours annually.

Number of Respondents: 9 annually.

Issued on: December 18, 2000.
Frank Seales, Jr.,
Chief Counsel.

[FR Doc. 00-32580 Filed 12-20-00; 8:45 am]

BILLING CODE 4910-59-P